DEPARTMENT OF JUSTICE

Notice of Lodging of Consent Decree Under the Clean Air Act

Notice is hereby given that on April 19, 2007, a proposed Consent Decree in United States v. Shan Industries, LLC, Civil Action No. 2:07-1839 (JLL) was lodged with the United States District Court for the District of New Jersey.

In this action the United States sought civil penalties and injunctive relief relating to alleged violations of the Clean Air Act, 42 U.S.C. 7401, et seq., and the National Emissions Standards for Chromium Emissions from Hard and Decorative Chromium Electroplating and Chromium Anodizing Tanks, 40 CFR Part 63, Subpart N, and the National Emissions Standards for Halogenated Solvent Cleaning, 40 CFR Part 63, Subpart T, arising out of Shan Industries, LLC's ownership and operation of its Accurate Forming facility, located in Hamburg, New Jersey. Shan uses tricholoroethylene and hexavalent chromium to degrease and electroplate “deep drawn” metal parts used in such products as writing implements and automotive fuel filters. The Consent Decree resolves the claims alleged in the Complaint that Shan violated the Act and the pertinent regulations in its operations, and failed to comply with certain design, testing, operating, monitoring and reporting requirements. Shan has demonstrated that it has brought the facility into compliance. The Consent Decree requires Shan to pay, based on its limited financial ability, a civil penalty of $101,000 in three annual installments, and provides that Shan will comply with reporting requirements set forth in the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Shan Industries, LLC, D.J. Ref. 90-5-2-1-08362/1. Such comments may also be sent by e-mail to pubcomment-ees.enrd@usdoj.gov.

The Consent Decree may be examined at the Office of the United States Attorney, District of New Jersey, 970 Broad Street, 7th Floor, Newark, NJ 07102, and at U.S. EPA Region 2, 290 Broadway, New York, NY 10007-1866. During the public comments period, the Consent Decree may also be examined on the following Department of Justice Web site: http://www.usdoj.gov/enrd/Consent_Decrees.html.

A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Maureen Katz,
Assistant Chief, Environmental Enforcement Section, Environment and Natural Resources Division.

[FR Doc. 07-2161 Filed 5-2-07; 8:45 am]

BILLING CODE 4410-15-M